DEPARTMENT OF STATE

[Public Notice 5555]

Shipping Coordinating Committee; Notice of Meeting

The Shipping Coordinating Committee (SHC) will conduct an open meeting from 10 a.m. until 11 a.m. on Thursday, November 2, 2006 in Room 4420 at the U. S. Coast Guard Headquarters, 2100 Second Street, SW., Washington, DC, 20593-0001. The purpose of the meeting is to finalize preparations for the International Maritime Organization's (IMO) 97th session of Council, which is scheduled for November 6-10, 2006 at Central Hall Westminster in London, UK. Discussion will focus on papers received and draft U.S. positions.

Items of particular interest include:

—Reports of Committees;

—Resource Management;

—Strategy and planning;

—Implementation of Article 17 of the IMO Convention;

—Protection of vital shipping lanes and;

—Status of the Convention and membership of the Organization.

Members of the public may attend these meetings up to the seating capacity of the room. Interested persons may seek information by writing: Mr. Jeremy Cairl, International Affairs, U.S. Coast Guard Headquarters, Commandant (G-CI), Room 4420, 2100 Second Street, SW., Washington, DC 20593-0001 or by calling: (202) 372-4475.

Dated: October 17, 2006.
Margaret Hayes,
Director, Shipping Coordinating Committee, Department of State.

[FR Doc. E6-17693 Filed 10-20-06; 8:45 am]

BILLING CODE 4710-09-P